DEPARTMENT OF TRANSPORTATION

Federal Transit Administration

FTA Supplemental Fiscal Year 2009 Apportionments and Allocations

AGENCY: Federal Transit Administration (FTA), DOT.

ACTION: Notice.

SUMMARY: Division I of the “Omnibus Appropriations Act, 2009” (Pub. L. 111-8), signed into law by President Barack Obama on March 11, 2009, made funds available for all of the surface transportation programs of the Department of Transportation (DOT) for the Fiscal Year (FY) ending September 30, 2009. This notice supplements the December 18, 2008 Federal Register notice. The notice apportions formula funds made available under the Omnibus Appropriations Act and allocates FY 2009 funds to congressionally designated projects that were contained in the accompanying committee report and the Safe, Accountable, Flexible, Efficient Transportation Equity Act: A Legacy for Users (SAFETEA-LU). The notice does not include any extensions of previously lapsed earmarks. The Federal Transit Administration (FTA) will address allocations of lapsed and/or unallocated resources subsequent to this notice.

FOR FURTHER INFORMATION CONTACT: For general information about this notice contact Henrika Buchanan-Smith, Office of Program Management, at (202) 366-2053. Please contact the appropriate FTA regional or metropolitan office for any specific requests for information or technical assistance. Appendix A at the end of this notice includes contact information for FTA regional and metropolitan offices.

SUPPLEMENTARY INFORMATION:

Table of Contents

I. Overview

II. FTA Programs Funding

III. FY 2009 FTA Program Initiatives and Changes

IV. FTA Programs

A. Metropolitan Planning Program (49 U.S.C. 5305(d))

B. State Planning and Research Program (49 U.S.C. 5305(e))

C. Urbanized Area Formula Program (49 U.S.C. 5307)

D. Clean Fuels Formula Program (49 U.S.C. 5308)

E. Capital Investment Program (49 U.S.C. 5309)—Fixed Guideway Modernization

F. Capital Investment Program (49 U.S.C. 5309)—Bus and Bus-Related Facilities

G. Capital Investment Program (49 U.S.C. 5309)—New and Small Starts

H. Special Needs of Elderly Individuals and Individuals With Disabilities Program (49 U.S.C. 5310)

I. Nonurbanized Area Formula Program (49 U.S.C. 5311)

J. Rural Transportation Assistance Program (49 U.S.C. 5311(b)(3))

K. Public Transportation on Indian Reservation Program (49 U.S.C. 5311(c)(1))

L. National Research Program (49 U.S.C. 5314)

M. Job Access and Reverse Commute Program (49 U.S.C. 5316)

N. New Freedom Program (49 U.S.C. 5317)

O. Paul S. Sarbanes Transit in Parks Program (49 U.S.C. 5320)

P. Alternatives Analysis Program (49 U.S.C. 5339)

Q. Growing States and High Density States Formula (49 U.S.C. 5340)

R. Over-the-Road Bus Accessibility Program (49 U.S.C. 5310 Note) Tables

1. FTA Revised FY 2009 Appropriations and Apportionments for Grant Programs

2. FTA Revised FY 2009 Metropolitan Planning Program and Statewide Planning and Research Program Apportionments

3. FTA Revised FY 2009 Section 5307 and Section 5340 Urbanized Area Apportionments

4. FTA FY 2009 Section 5307 Apportionment Formula

5. FTA Revised FY 2009 Formula Programs Apportionments Data Unit Values

5-A. FTA Urbanized Areas 200,000 or More in Population Eligible to Use Section 5307 Funds for Operating Assistance

6. FTA Revised FY 2009 Small Transit Intensive Cities Performance Data and Apportionments

7-A. FTA FY 2009 Section 5308 Clean Fuels Allocations

8. FTA Revised FY 2009 Section 5309 Fixed Guideway Modernization Apportionments

9. FTA FY 2009 Fixed Guideway Modernization Program Apportionment Formula

10-A. FTA FY 2009 Section 5309 Bus And Bus-Related Facilities Allocations

10-B. FTA Reprogrammed Section 5309 Bus And Bus-Related Facilities Allocations

11. FTA Revised FY 2009 Section 5309 New Starts Allocations

12-A. FTA Reprogrammed Section 5309 New Starts Allocations

13. FTA Revised FY 2009 Special Needs for Elderly Individuals and Individuals with Disabilities Apportionments

14. FTA Revised FY 2009 Section 5311 and Section 5340 Nonurbanized Area Formula Apportionments, and Rural Transportation Assistance Program (RTAP) Allocations

16. FTA Revised FY 2009 Section 5316 Job Access And Reverse Commute (JARC) Apportionments

18. FTA Revised FY 2009 Section 5317 New Freedom Apportionments

19-A. FTA FY 2009 Section 5339 Alternative Analysis Allocations

20. FTA FY 2009 National Research Programs Allocations Appendix A

I. Overview

This document apportions and allocates FY 2009 formula funds appropriated in Division I of the Omnibus Appropriations Act, 2009 (Pub. L. 111-8, March 11, 2009), and FY 2009 funds designated for specific projects under SAFETEA-LU and the committee report accompanying the Omnibus Appropriations Act, 2009, for the Bus and Bus Facilities program, New Starts program, Clean Fuels program, and the Alternatives Analysis program. It also includes projects that were extended or reprogrammed as a matter of law in the Omnibus Appropriations Act, 2009. This notice does not include allocations of recovered previous years' discretionary funds or unallocated FY 2009 discretionary resources. FTA will provide information regarding the availability of unallocated discretionary resources at a later date.

FTA reminds grantees apportioned formula funds from the American Recovery and Reinvestment Act (Pub. L. 111-05; “ARRA”) that at least fifty percent of the funds attributable to each urbanized area over 200,000 in population and each State for all other areas must be obligated in a FTA grant by September 1, 2009. The March 5, 2009 Federal Register notice that apportioned ARRA funds provides more details about this requirement and includes the statement that “FTA will consider a submittal timely if a complete ARRA formula grant is received on or before July 1, 2009.” FTA reminds grantees that the July 1, 2009 deadline accounts for the Department of Labor process associated with labor certifications which can take up to 60 days to complete the certification referral process. Grantees are strongly encouraged to submit applications well in advance of that deadline whenever possible. Planning submission of a grant application on or near July 1, 2009 might not account for local decision making schedules that could be subject to change, or to any grant errors or issues for resolution that might be identified. Taking these other considerations into account makes it prudent to submit applications as soon as feasible.

II. FTA Program Funding Based on the Omnibus Appropriations Act, 2009

The Omnibus Appropriations Act, 2009, provides general funds and obligation authority on trust funds from the Mass Transit Account (MTA) that total $10.2 billion for FTA programs. FTA previously published a notice on December 18, 2008, that made $4.1 billion of the $10.2 billion available in accordance with the Continuing Appropriations Act. Table 1 of this document shows the funding for the FTA programs, as provided for in the entire fiscal year of 2009 in the Omnibus Appropriations Act, 2009. All Formula programs, the Alternatives Analysis program, and the Section 5309 Bus and Bus-Related Facilities program are funded entirely from the Mass Transit Account of the Highway Trust Fund in FY 2009. The Section 5309 New Starts Program, the Research Program, and FTA administrative expenses are funded by appropriations from the General Fund of the Treasury.

III. FY 2009 FTA Program Initiatives and Changes

A. Match for Biodiesel Vehicles and Hybrid Retrofits

Section 164 of the Omnibus Appropriations Act, 2009, allows a 90 percent Federal share for biodiesel buses and for the net capital cost of factory-installed or retrofitted hybrid electric propulsion systems and any equipment related to such a system. This increased federal share is a cross-cutting provision and is applicable across FTA programs for any grants awarded during FY 2009, regardless of what fiscal year funding is used. Grantees may apply for a 90 percent Federal share for the entire cost of a biodiesel bus. However, in the case of a hybrid electric vehicle, only the cost of the propulsion system and related equipment is eligible for 90 percent Federal share. In lieu of calculating the costs of the equipment separately, grantees may apply for 83 percent of the cost of the vehicle.

B. Use of Lapsed and Recovered Funds

Section 170 of the Omnibus Appropriations Act, 2009, restricts the use of unobligated funds or recovered funds under Section 5309 that are available for reallocation by the Secretary of Transportation. Specifically, Section 170 provides that the Secretary may reallocate Section 5309 discretionary funds only to projects eligible to use the funds for the purposes for which they were originally provided. Accordingly, Section 5309 Bus and Bus Facilities (Bus) Program recovered or unobligated lapsed funds must be redirected to projects eligible under the Bus Program and Section 5309 Capital Investment (New Starts) Program recovered or unobligated lapsed funds must be redirected to projects eligible under the New Starts Program. In accordance with 49 U.S.C. 5337(d)(2), Section 5309 Fixed Guideway Modernization (Fixed Guideway) program funds that are recovered or unobligated are reapportioned by formula for projects eligible under the Fixed Guideway Modernization program.

C. Congressional Notification of Discretionary Grant Awards

Before FTA can award grants for discretionary projects and activities designated by Congress, if the award exceeds an established dollar threshold, notification three full business days prior to award must be given to members of Congress and to the House and Senate authorizing and appropriations committees. In previous years, the amount requiring Congressional notification was $1 million; however, the Continuing Appropriations Act, 2008, lowered the threshold for notification to $500,000. Section 188 of the Omnibus Appropriations, 2009, extends the lowered threshold amount. Therefore, FTA will continue to notify Congress before making a discretionary grant award that is $500,000 or more.

IV. FTA Programs

A. Metropolitan Planning Program (49 U.S.C. 5305(d))

Section 5305(d) authorizes federal funding to support a cooperative, continuous, and comprehensive planning program for transportation investment decision making in metropolitan areas as set forth in 49 U.S.C. 5303. Detailed program information was previously published in the Federal Register on December 18, 2008. For more information about Metropolitan Transportation Planning and the Metropolitan Planning Program, including FTA Circular 8100.1C, contact Charles Goodman, of the Office of Planning and Environment, at (202) 366-1944. For information about published allocations, contact Kimberly Sledge, Office of Transit Programs, at (202) 366-2053.

FY 2009 Funding Availability

The Omnibus Appropriations Act, 2009, provides $93,887,200 to the Metropolitan Planning Program (49 U.S.C. 5305(d)). The total amount apportioned for the Metropolitan Planning Program to States for use by metropolitan planning organizations (MPOs) in urbanized areas (UZAs) is $93,626,320, as shown in the table below, after the deduction for oversight and the addition of previous year reapportioned funds.

Metropolitan Planning Program
Total Appropriation | $93,887,200
Oversight Deduction | −469,436
Prior Year Funds Added | 208,556
Total Apportioned | 93,626,320

Apportionments for this program are displayed in Table 2.

B. State Planning and Research Program (49 U.S.C. 5305(e))

This program provides financial assistance to States for Statewide transportation planning as set forth in 49 U.S.C. 5304 and other technical assistance activities, including supplementing the technical assistance program provided through the Metropolitan Planning Program. Detailed program information was previously published in the Federal Register on December 18, 2008. For more information about statewide transportation planning and the State Planning and Research Program, including FTA Circular 8100.1C, contact Charles Goodman, of the Office of Planning and Environment, at (202) 366-1944. For information about published allocations, contact Kimberly Sledge, Office of Transit Programs, at (202) 366-2053.

FY 2009 Funding Availability

The Omnibus Appropriations Act, 2009, provides $19,612,800 to the State Planning and Research Program (SPRP) (49 U.S.C. 5305(e)). The total amount apportioned for SPRP is $20,348,334, as shown in the table below, after the deduction for oversight (authorized by 49 U.S.C. 5327) and the addition of unspent funds from previous years.

State Planning and Research Program
Total Appropriation | $19,612,800
Oversight Deduction | −98,064
Prior Year Funds Added | 833,598
Total Apportioned | 20,348,334

Apportionments for this program are displayed in Table 2.

C. Urbanized Area Formula Program (49 U.S.C. 5307)

Section 5307 authorizes Federal funding for capital and in some cases, operating assistance, and planning activities, for transit in Urbanized Area (UZAs). A UZA is an area with a population of 50,000 or more that has been defined and designated as such in the most recent decennial Census by the U.S. Census Bureau. Detailed program information was previously published in the Federal Register on December 18, 2008. For more information contact the Office of Program Management at (202) 366-2053.

FY 2009 Funding Availability

The Omnibus Appropriations Act, 2009, provides $4,160,365,000 to the Urbanized Area Formula Program (49 U.S.C. 5307). The total amount apportioned for the Urbanized Area Formula Program is $4,530,561,686 as shown in the table below, after the 0.75 percent deduction for oversight (authorized by 49 U.S.C. 5327), the addition of previous year funding and including funds apportioned to UZAs from the appropriation for Section 5340 for Growing States and High Density States.

Urbanized Area Formula Program
Total Appropriation | ᵃ $4,160,365,000
Oversight Deduction | −31,202,738
Prior Year Funds Added | 9,603,308
Section 5340 Funds Added | 391,796,116
Total Apportioned | 4,530,561,686
ᵃ One percent set-aside for Small Transit Intensive Cities Formula.

Table 3 displays the amounts apportioned under the Urbanized Area Formula Program.

Table 5-A provides a list of the urbanized areas that crossed over the 200,000 population threshold (or were merged with existing large urbanized areas) as a result of the 2000 Census. These areas may use their FY 2009 apportionment to fund operating assistance projects up to the operating limitation specified in the Table 5-A.

D. Clean Fuels Grant Program (49 U.S.C. 5308)

The Clean Fuels Grant Program supports the use of alternative fuels in air quality maintenance or nonattainment areas for ozone or carbon monoxide through capital grants to urbanized areas for clean fuel vehicles and facilities. Detailed program information was previously published in the Federal Register on December 18, 2008. For more information about this program, contact Kimberly Sledge, Office of Program Management, at (202) 366-2053.

1. FY 2009 Funding Availability

The Omnibus Appropriations Act, 2009, provides $51,500,000 to the Clean Fuels Grant Program (49 U.S.C. 5308). The amount available to be allocated is displayed in the table below.

Clean Fuels Grant Program
Total Appropriation | $51,500,000
Oversight Deduction | 0
Total Available | 51,500,000
Total Allocated to Specific Projects | −21,632,000
Total Unallocated | 29,868,000

FY 2009 Clean Fuel Program allocations are shown in Table 7-A.

2. Period of Availability

The FY 2009 Clean Fuels Grant program funds not obligated in a grant for eligible purposes as of September 30, 2011, may be made available for other projects under 49 U.S.C. 5308.

E. Capital Investment Program (49 U.S.C. 5309)—Fixed Guideway Modernization

This program provides capital assistance for the maintenance, recapitalization and modernization of existing fixed guideway systems. Detailed program information was previously published in the Federal Register on December 18, 2008. For more information about Fixed Guideway Modernization contact the Office of Program Management, at (202) 366-2053.

FY 2009 Funding Availability

The Omnibus Appropriations Act, 2009, provides $1,666,500,000 to the Fixed Guideway Modernization Program. The total amount apportioned for the Fixed Guideway Modernization Program is $1,650,085,466, after the deduction for oversight, and addition of prior year reapportioned funds, as shown in the table below.

Fixed Guideway Modernization Program
Total Appropriation | $1,666,500,000
Oversight Deduction | −16,665,000
Prior Year Funds Added | 250,466
Total Apportioned | 1,650,085,466

FY 2009 Fixed Guideway Modernization Program apportionments are displayed in Table 8.

F. Capital Investment Program (49 U.S.C. 5309)—Bus and Bus-Related Facilities

This program provides capital assistance for new and replacement buses, and related equipment and facilities. Funds are allocated on a discretionary basis. Detailed program information was previously published in the Federal Register on December 18, 2008. For more information about Bus and Bus-Related Facilities contact Kimberly Sledge, Office of Program Management, at (202) 366-2053.

1. FY 2009 Funding Availability

The Omnibus Appropriations Act, 2009, provides $884,000,000 for the Bus and Bus-Related Facilities program. This amount is $100,000,000 below the SAFETEA-LU authorized program funding level based on a rescission of that amount contained in the Omnibus Appropriations Act, 2009. The total amount allocated is shown in the table below.

Bus and Bus-Related Facilities
SAFETEA-LU Authorized Level | $984,000,000
Rescission | −100,000,000
Total Available | 884,000,000
Oversight Deduction | −8,840,000
Total Available | 875,160,000
Total Allocated to Specific Projects | −761,064,229
Total Unallocated | 114,095,771

FY 2009 allocations are shown in Table 10-A. Projects reprogrammed by the Omnibus Appropriations Act, 2009, are shown in Table 10-B.

2. Requirements

FTA honors Congressional earmarks for the purposes designated and for purposes eligible under the program or under the expanded eligibility of a “notwithstanding” provision. Projects designated under the Section 5309 Bus Program and the Section 5339 Alternatives Analysis Program for funding in the report language accompanying the Omnibus Appropriations Act, 2009, were incorporated as earmarks into the Omnibus Act by section 186. FTA will treat these projects as projects designated in law. The use of funds for any purpose other than as described in the earmark will require legislation. To apply to use funds designated in report language under the Bus Program in any year for project activities outside the scope of the project designation included in report language, but not earmarked in law or incorporated into law by reference, the recipient must submit a request for reprogramming to the House and Senate Committees on Appropriations for resolution.

3. Period of Availability

The FY 2009 Bus and Bus-Related Facilities funds not obligated in a grant for eligible purposes as of September 30, 2011, may be made available for other eligible bus projects under 49 U.S.C. 5309.

G. Capital Investment Program (49 U.S.C. 5309)—New and Small Starts

The New and Small Starts program provides funds for construction of new fixed guideway systems or extensions to existing fixed guideway systems and, in the case of Small Starts, corridor-based bus systems. Detailed program information was previously published in the Federal Register on December 18, 2008. For more information about New and Small Starts project development contact Elizabeth Day, Office of Planning and Environment, at (202) 366-4033, or for information about published allocations contact Kimberly Sledge, Office of Program Management, at (202) 366-2053.

1. FY 2009 Funding Availability

The Omnibus Appropriations Act, 2009, provides $1,809,250,000 to the Capital Investment Program. The total amount allocated for the program is shown in the table below.

Capital Investment Program (New and Small Starts)
Total Appropriation | $1,809,250,000
Oversight (one percent) | −(18,092,500)
Total Available | 1,791,157,500
Total Allocated to Specific Projects | −1,791,145,293
Total Unallocated | 12,207

The FY 2009 Major Capital Investment Program Allocations are shown in Table 11. Projects extended or reprogrammed by the Omnibus Appropriations Act, 2009, are shown in Table 12-A.

H. Special Needs of Elderly Individuals and Individuals With Disabilities Program (49 U.S.C. 5310)

This program provides formula funding to States for capital projects to assist private nonprofit groups in meeting the transportation needs of the elderly and individuals with disabilities when the public transportation service provided in the area is unavailable, insufficient, or inappropriate to meet these needs. Detailed program information was previously published in the Federal Register on December 18, 2008. For more information about the Elderly and Individuals with Disabilities Program contact David Schneider, Office of Program Management, at (202) 366-2053.

FY 2009 Funding Availability

The Omnibus Appropriations Act, Omnibus Appropriations Act, 2009, provides $133,500,000 to the Elderly and Individuals with Disabilities Program (49 U.S.C. 5310). After deduction of 0.5 percent for oversight (49 U.S.C. 5327), and the addition of reapportioned prior year funds, $135,823,746 remains available for allocation to the States.

Elderly and Individuals With Disabilities Program
Total Appropriation | $133,500,000
Oversight Deduction | −667,500
Prior Year Funds Added | 2,991,246
Total Apportioned | $135,823,746

The FY 2009 Elderly and Individuals with Disabilities Program apportionments to the States are displayed in Table 13.

I. Nonurbanized Area Formula Program (49 U.S.C. 5311)

This program provides formula funding to States and Indian Tribes for the purpose of supporting public transportation in areas with a population of less than 50,000. Funding may be used for capital, operating, State administration, and project administration expenses. Detailed program information was previously published in the Federal Register on December 18, 2008. For more information about the Nonurbanized Area Formula Program contact Lorna Wilson, Office of Program Management, at (202) 366-2053.

FY 2009 Funding Availability

The Omnibus Appropriations Act, 2009, provides $465,000,000 to the Nonurbanized Area Formula Program (49 U.S.C. 5311). The total amount apportioned for the Nonurbanized Area Formula Program is $511,684,110, after take-downs of two percent for the Rural Transportation Assistance Program (RTAP), 0.5 percent for oversight, and $15,000,000 for the Tribal Transit Program, and the addition of Section 5340 funds and prior year funds reapportioned, as shown in the table below.

Nonurbanized Area Formula Program
Total Appropriation | $465,000,000
Oversight Deduction | −2,325,000
RTAP Takedown | −9,300,000
Tribal Transit Takedown | −15,000,000
Prior Year Funds Added | 105,226
Section 5340 Funds Added | 73,203,884
Total Apportioned | 511,684,110

The FY 2009 Nonurbanized Area Formula apportionments to the States are displayed in Table 14.

J. Rural Transportation Assistance Program (49 U.S.C. 5311(b)(3))

This program provides funding to assist in the design and implementation of training and technical assistance projects, research, and other support services tailored to meet the needs of transit operators in nonurbanized areas. Detailed program information was previously published in the Federal Register on December 18, 2008. For more information about RTAP contact Lorna Wilson, Office of Program Management, at (202) 366-2053.

FY 2009 Funding Availability

The Omnibus Appropriations Act, 2009, provides $9,300,000 to RTAP (49 U.S.C. 5311(b)(2)), as a two percent takedown from the funds appropriated for Section 5311. FTA has reserved 15 percent for the National RTAP program. After adding prior year funds eligible for reapportionment, $7,905,016 is available for allocations to the States, as shown in the table below.

Rural Transit Assistance Program
Total Appropriation | $9,300,000
National RTAP Takedown | −1,395,000
Prior Year Funds Added | 16
Total Apportioned | 7,905,016

Table 14 shows the FY 2009 RTAP allocations to the States.

K. Public Transportation on Indian Reservations Program (49 U.S.C. 5311(c)(1))

FTA refers to this program as the Tribal Transit Program. It is funded as a takedown from funds appropriated for the Section 5311 program. Federally recognized Indian Tribes are eligible direct recipients. Detailed program information was previously published in the Federal Register on December 18, 2008. For more information about the Tribal Transit Program contact Lorna Wilson, Office of Program Management, at (202) 366-2053.

1. Funding Availability in FY 2009

Under the Omnibus Appropriations Act, 2009, the amount allocated to the program in FY 2009 is $15,000,000, as authorized in Section 5311(c)(1)(C). After adding prior year funds eligible for reallocation, $15,024,797 is available for allocation.

2. Basis for Allocation

Based on procedures developed in consultation with the Tribes, FTA has issued a Notice of Funding Availability (NOFA) soliciting applications for FY 2009 funds.

L. National Research Programs (49 U.S.C. 5314)

FTA's National Research Programs (NRP) include the National Research and Technology Program (NRTP), the Transit Cooperative Research Program (TCRP), the National Transit Institute (NTI), and the University Transportation Centers Program (UTC). Detailed program information was previously published in the Federal Register on December 18, 2008. For more information contact Linda Wolfe, Office of Research, Demonstration and Innovation, at (202) 366-8511.

Funding Availability in FY 2009

The Omnibus Appropriations Act, 2009, provides $67,000,000 for the National Research Programs. Of this amount $10,000,000 is allocated for TCRP, $4,300,000 for NTI, $7,000,000 for the UTC, and $45,700,000 for NRTP. Within the NRTP—$22,165,000 is allocated for specific activities under 49 U.S.C. 5338(d) and in Section 3046 of SAFETEA-LU. An additional $5,937,500 was allocated for specific activities in 2009 Appropriations Act. All research and research and development projects, as defined by the Office of Management and Budget, are subject to a 2.75 percent reduction for the Small Business Innovative Research Program (SBIR). The takedown has been applied where applicable, unless the purpose of the project is unclear. A breakdown of NRP funds is provided in the table below.

National Research Programs
Total Appropriation | $67,000,000
Funds Allocated for Specific Programs or Activities | 49,598,054
Small Business Innovative Research Takedown estimate | 254,446
Funds Available for FTA Programming | 17,147,500
Total NPR Funding | 67,000,000

The project allocations are listed in Table 20.

M. Job Access and Reverse Commute Program (49 U.S.C. 5316)

The Job Access and Reverse Commute (JARC) program provides formula funding to States and Designated Recipients to support the development and maintenance of job access projects designed to transport welfare recipients and low-income individuals to and from jobs and activities related to their employment, and for reverse commute projects designed to transport residents of UZAs and other than urbanized areas to suburban employment opportunities. Detailed program information was previously published in the Federal Register on December 18, 2008. For more information about the JARC program contact David Schneider, Office of Program Management, at (202) 366-2053.

Funding Availability in FY 2009

The Omnibus Appropriations Act, 2009, provides $164,500,000 for the JARC Program. FTA is also reallocating $18,603,175 in lapsed FY 2006 JARC funds. The total amount apportioned by formula is shown in the table below.

Job Access and Reverse Commute Program
Total Appropriation | $164,500,000
Prior Year Funds Added | 18,603,175
Total Apportioned | 183,103,175

Table 16 shows the FY 2009 JARC apportionments.

N. New Freedom Program (49 U.S.C. 5317)

SAFETEA-LU established the New Freedom Program under 49 U.S.C. 5317. The program purpose is to provide new public transportation services and public transportation alternatives beyond those currently required by the Americans with Disabilities Act of 1990 (42 U.S.C. 12101 et seq.) that assist individuals with disabilities with transportation, including transportation to and from jobs and employment support services. Detailed program information was previously published in the Federal Register on December 18, 2008. For more information about the New Freedom program contact David Schneider, Office of Program Management, at (202) 366-2053.

Funding Availability in FY 2009

The Omnibus Appropriations Act, 2009, provides $92,500,000 for the New Freedom Program. In addition, $8,359,585 in lapsed FY 2006 New Freedom funds is also being reallocated. The entire amount is apportioned by formula, as shown in the table below.

New Freedom Program
Total Appropriation | $92,500,000
Prior Year Funds Added | 8,359,585
Total Apportioned | 100,859,585

Table 18 shows the FY 2009 New Freedom apportionments.

O. Paul S. Sarbanes Transit in Parks Program (49 U.S.C. 5320)

The Paul S. Sarbanes Transit in Parks Program (Transit in Parks Program), formerly the Alternative Transportation in Parks and Public Lands (ATPPL) program, is administered by FTA in partnership with the Department of the Interior (DOI) and the U.S. Department of Agriculture's Forest Service. Detailed program information was previously published in the Federal Register on December 18, 2008. For more information on the Paul S. Sarbanes Transit in Parks Program contact the Office of Program Management at (202) 366-2053.

FY 2009 Funding Availability

The Omnibus Appropriations Act, 2009, makes $26,900,000 available for the program in FY 2009. After a 0.5 percent takedown for oversight (authorized by 49 U.S.C. 5327), $26,765,500 is available to be awarded to projects. Up to ten percent of the funds may be reserved for administering the program and for planning, research, and technical assistance. FTA will publish a Notice of Funding Availability (NOFA) in the Federal Register inviting applications for projects to be funded in FY 2009.

P. Alternatives Analysis Program (49 U.S.C. 5339)

The Alternatives Analysis Program provides grants to States, authorities of the States, metropolitan planning organizations, and local government authorities to develop studies as part of the transportation planning process. Alternatives Analysis Program funds are allocated on a discretionary basis. Detailed program information was previously published in the Federal Register on December 18, 2008. For more information about this program contact Maurice Foushee, of the Office of Planning and Environment, at (202) 366-4033.

FY 2009 Funding Availability

The Omnibus Appropriations Act, 2009, provides $25,000,000 to the Alternatives Analysis Program (49 U.S.C. 5339). The amount available for allocation is shown in the table below.

Alternatives Analysis Program
Total Appropriation | $25,000,000
Total Available | 25,000,000
Total Allocated to Specific Projects | −15,188,125
Total Unallocated | 9,811,875

FY 2009 Alternatives Analysis Program allocations are shown in Table 19-A.

Q. Growing States and High Density States Formula Factors

The Omnibus Appropriations Act, 2009, makes $465,000,000 available for apportionment in accordance with the formula factors prescribed for Growing States and High Density States in Section 49 U.S.C. 5340. Fifty percent of this amount (or $232,500,000) is apportioned to eligible States and urbanized areas using the Growing State formula factors. The other 50 percent is apportioned to eligible States and urbanized areas using the High Density States formula factors. Based on application of the formulas, $159,296,116 of the Growing States funding was apportioned to urbanized areas and $73,203,884 to nonurbanized areas. All of the $232,500,000 allotted to High Density States was apportioned to urbanized areas. For more detailed program information, please see the Federal Register notice published on December 18, 2008.

R. Over-the-Road Bus Accessibility Program (49 U.S.C. 5310 note)

The Over-the-Road Bus Accessibility (OTRB) Program authorizes FTA to make grants to operators of over-the-road buses to help finance the incremental capital and training costs of complying with the DOT over-the-road bus accessibility final rule, 49 CFR Part 37, published on September 28, 1998 (63 FR 51670). For more information about the OTRB program contact Blenda Younger, Office of Program Management, at (202) 366-2053.

Funding Availability in FY 2009

The Omnibus Appropriations Act, 2009, provides $8,800,000 for the Over-the-Road Bus Accessibility (OTRB) Program, and together with $1,880,335 in lapsed funds provides a total of $10,680,335 allocable for OTRB, as shown in the table below:

Over-the-Road Bus Accessibility Program
Total Appropriation | $8,800,000
Amount Lapsed | 1,880,335
Total Apportioned | 10,680,335

Of this amount, $8,010,251 is allocable to providers of intercity fixed-route service, and $2,670,084 to other providers of over-the-road bus services, including local fixed-route service, commuter service, and charter and tour service. FTA will publish a notice, at a later date, soliciting proposals for FY 2009 program funds.

Issued in Washington, DC, this 21st day of April, 2009.
Matthew J. Welbes,
Acting Deputy Administrator.

Appendix A

FTA Regional Offices
Richard H. Doyle | Robert C. Patrick
Regional Administrator | Regional Administrator
Region 1—Boston | Region 6—Ft. Worth
Kendall Square | 819 Taylor Street, Room 8A36
55 Broadway, Suite 920 | Ft. Worth, TX 76102
Cambridge, MA 02142-1093 | Tel. 817 978-0550
Tel. 617 494-2055
States served: Connecticut, Maine, Massachusetts, New Hampshire, Rhode Island, and Vermont. | States served: Arkansas, Louisiana, Oklahoma, New Mexico and Texas.
Brigid Hynes-Cherin | Mokhtee Ahmad
Regional Administrator | Regional Administrator
Region 2—New York | Region 7—Kansas City, MO
One Bowling Green, Room 429 | 901 Locust Street, Room 404
New York, NY 10004-1415 | Kansas City, MO 64106
Tel. No. 212 668-2170 | Tel. 816 329-3920
States served: New Jersey, New York. | States served: Iowa, Kansas, Missouri, and Nebraska.
New York Metropolitan Office
Region 2—New York
One Bowling Green, Room 428
New York, NY 10004-1415
Tel. 212-668-2202.
Letitia Thompson | Terry Rosapep
Regional Administrator | Regional Administrator
Region 3—Philadelphia | Region 8—Denver
1760 Market Street, Suite 500 | 12300 West Dakota Ave., Suite 310
Philadelphia, PA 19103-4124 | Lakewood, CO 80228-2583
Tel. 215 656-7100 | Tel. 720-963-3300
States served: Delaware, Maryland, Pennsylvania, Virginia, West Virginia, and District of Columbia. | States served: Colorado, Montana, North Dakota, South Dakota, Utah, and Wyoming.
Philadelphia Metropolitan Office
Region 3—Philadelphia
1760 Market Street, Suite 500
Philadelphia, PA 19103-4124
Tel. 215-656-7070.
Washington, D.C. Metropolitan Office
1990 K Street, NW.,
Room 510
Washington, DC 20006
Tel. 202-219-3562.
Yvette Taylor | Leslie T. Rogers
Regional Administrator | Regional Administrator
Region 4—Atlanta | Region 9—San Francisco
230 Peachtreet Street, NW Suite 800 | 201 Mission Street, Room 1650
Atlanta, GA 30303 | San Francisco, CA 94105-1926
Tel. 404 865-5600 | Tel. 415 744-3133
States served: Alabama, Florida, Georgia, Kentucky, Mississippi, North Carolina, Puerto Rico, South Carolina, Tennessee, and Virgin Islands. | States served: American Samoa, Arizona, California, Guam, Hawaii, Nevada, and the Northern Mariana Islands.
| Los Angeles Metropolitan Office
| Region 9—Los Angeles
| 888 S. Figueroa Street, Suite 1850
| Los Angeles, CA 90017-1850
| Tel. 213-202-3952
Marisol Simon | Rick Krochalis
Regional Administrator | Regional Administrator
Region 5—Chicago | Region 10—Seattle
200 West Adams Street, Suite 320 | Jackson Federal Building
Chicago, IL 60606 | 915 Second Avenue, Suite 3142
Tel. 312 353-2789 | Seattle, WA 98174-1002
| Tel. 206 220-7954
States served: Illinois, Indiana, Michigan, Minnesota, Ohio, and Wisconsin. | States served: Alaska, Idaho, Oregon, and Washington.
Chicago Metropolitan Office
Region 5—Chicago
200 West Adams Street, Suite 320
Chicago, IL 60606
Tel. 312-353-2789

[FR Doc. E9-9475 Filed 4-24-09; 8:45 am]

BILLING CODE 4910-57-P